DEPARTMENT OF ENERGY

Proposed Agency Information Collection

AGENCY: U.S. Department of Energy.

ACTION: Notice and Request for OMB Review and Comment.

SUMMARY: The Department of Energy (DOE) has submitted to the Office of Management and Budget (OMB) for clearance, a proposal for collection of information under the provisions of the Paperwork Reduction Act of 1995. The proposed collection will collect information on refineries with a crude distillation capacity of 50,000 barrels a day that have been shutdown, had a physical or cyber attack, or had an emergency shutdown of a major unit or process that may significantly reduce its production of transportation and/or heating fuels.

DATES: Comments regarding this collection must be received on or before December 5, 2008. If you anticipate that you will be submitting comments, but find it difficult to do so within the period of time allowed by this notice, please advise the OMB Desk Officer of your intention to make a submission as soon as possible. The Desk Officer may be telephoned at 202-395-4650.

ADDRESSES: Written comments should be sent to the:

DOE Desk Officer, Office of Information and Regulatory Affairs, Office of Management and Budget, New Executive Office Building, Room 10102, 735 17th Street, NW., Washington, DC 20503; and to

Office of Electricity Delivery and Energy Reliability (Attn: Comments on Refinery Emergency Disruption and Incident Report), OE-30, Forrestal Building, U.S. Department of Energy, Washington, DC 20585;

or by fax at 202-586-2623, or by e-mail at Alice.Lippert@hq.doe.gov. Alternatively, Alice Lippert may be contacted by telephone at 202-586-9600.

FOR FURTHER INFORMATION CONTACT: Requests for information should be directed to Alice Lippert. Revised copies of the survey collection instrument and instructions can be accessed at: http://www.oe.netl.doe.gov/refdisrupt.aspx.

SUPPLEMENTARY INFORMATION: This information collection request contains:

(1) OMB No.: New;

(2) Information Collection Request Title: Refinery Emergency Disruption and Incident Report;

(3) Type of Request: New collection;

(4) Purpose: The Refinery Emergency Disruption and Incident Report collects information on petroleum refinery incidents and disturbances for DOE's use in fulfilling its overall national security and energy emergency management responsibilities. The information will also be used by DOE for emergency response and analytical purposes. Since the pre-survey consultation notice was published, Federal Register notice 73 FR 37451, the proposal for the collection of actions taken by the refinery, units or processes affected, and the estimated production impact (Schedule 2) has been withdrawn. Additionally the reporting requirements for filing the form have changed. Respondents are required to submit the form within one hour between the hours of 7 a.m. and 6 p.m. (local time where incident has occurred) when at least one of the conditions for filing has been met. Outside of those hours, the form must be submitted within 3 hours of determining at least one of the conditions for filing has been met.

(5) Type of Respondents: All petroleum refineries with a crude distillation capacity of 50,000 barrels a day or greater that are located in the 50 States, District of Columbia, Puerto Rico, the Virgin Islands, Guam, and other U.S. possessions will be required to supply information when an incident or disturbance meets a reporting threshold.

(6) Estimated Number of Respondents: 100 Respondents—100 refinery operators (number not expected to change over the next three years);

(7) Estimated Number of Burden Hours: OE estimates the annual reporting burden to be 27 hours. OE estimates the respondent burden on the Emergency Report to be about six to ten minutes. OE estimates 200 annual Emergency Report filings.

Statutory Authority: Section 3507(h)(1) of the Paperwork Reduction Act of 1995 (Pub. L. No. 104-13, 44 U.S.C. Chapter 35), Department of Energy Organization Act (DOE Act), 42 U.S.C. 7101 et seq., Section 13 of the Federal Energy Administration Act of 1974 (Pub. L. 93-275) (15 U.S.C. 772), and Section 11 of the Energy Supply and Environmental Coordination Act of 1974 (ESECA) (Pub. L. 93-319, 15 U.S.C. 796).

Issued in Washington, DC on October 30, 2008.
Kevin M. Kolevar,
Assistant Secretary of Energy, Office of Electricity Delivery and Energy Reliability, Infrastructure Security and Energy Restoration Division.

[FR Doc. E8-26374 Filed 11-4-08; 8:45 am]

BILLING CODE 6450-01-P